DEPARTMENT OF COMMERCE

Foreign-Trade Zones Board

[Docket 33-2003]

Foreign-Trade Zone 40—Cleveland, OH, Area Application for Expansion

An application has been submitted to the Foreign-Trade Zones (FTZ) Board (the Board), by the Cleveland-Cuyahoga County Port Authority, grantee of Foreign-Trade Zone 40, requesting authority to expand its zone in the Cleveland, Ohio, area, within the Cleveland Customs port of entry. The application was submitted pursuant to the provisions of the Foreign-Trade Zones Act, as amended (19 U.S.C. 81a-81u), and the regulations of the Board (15 CFR part 400). It was formally filed on June 27, 2003.

FTZ 40 was approved on September 29, 1978 (Board Order 135, 43 FR 46886, 10/11/78) and expanded in June 1982 (Board Order 194, 47 FR 27579, 6/25/82); April 1992 (Board Order 574, 57 FR 13694, 4/17/92); February 1997 (Board Order 870, 62 FR 7750, 2/20/97; June 1999 (Board Order 1040, 64 FR 33242, 6/22/99); and, April 2002 (Board Order 1224, 67 FR 20087, 4/15/02). The general-purpose zone project currently consists of the following sites in the Cleveland, Ohio, area: Site 1 (94 acres)—Port of Cleveland complex on Lake Erie at the mouth of the Cuyahoga River, Cleveland; Site 2 (128 acres)—the IX Center (formerly the “Cleveland Tank Plant”), in Brook Park, adjacent to the Cleveland Hopkins International Airport; Site 3 (1,900 acres)—Cleveland Hopkins International Airport complex; Site 4 (450 acres)—Burke Lakefront Airport, 1501 North Marginal Road, Cleveland; Site 5 (298 acres)—Emerald Valley Business Park, Cochran Road and Beaver Meadow Parkway, Glenwillow; Site 6 (30 acres)—Collinwood site, South Waterloo (South Marginal) Road and East 152nd Street, Cleveland; Site 7 (47 acres)—Water Tower Industrial Park, Coit Road and East 140th Street, Cleveland; Site 8 (83 acres)—Strongsville Industrial Park, Royalton Road (State Route 82), Strongsville; Site 9 (13 acres)—East 40th Street between Kelley & Perkins Avenues (3830 Kelley Avenue), Cleveland; and, Site 10 (15 acres)—Frane Industrial Park, Forman Road, Ashtabula; Temporary Site 11 (15 acres)—Snow Road Industrial Park, 18901 Snow Road, Brook Park; and, Temporary Site 12 (32 acres)—Tow Path Valley Business Park, 3060 Eggers Avenue, Cleveland. Applications are pending with the FTZ Board to expand existing Site 3 (Docket 38-2002), to expand existing Site 1 (Docket 6-2003) and to expand existing Site 8 (Docket 14-2003).

The applicant is now requesting authority to expand the general-purpose zone to include an additional site (New Proposed Site 11) in the City of Vermilion (Lorain County). New Proposed Site 11 (172 acres, 2 parcels) is located within the 800-acre Harbour Point Business Park, Baumhart Road, at the intersections of U.S. Route 6 and Ohio Route 2, Vermilion. (Though there is an existing Site 11, it is temporary, and an application is pending with the Board that would incorporate it as part of Site 3.) The proposed zone project is immediately adjacent to the Ford Motor Company subzone in Lorain. The site is owned by Great Lakes Development, Ltd. The site will provide public warehousing and distribution services to area businesses. No specific manufacturing requests are being made at this time. Such requests would be made to the Board on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099—14th Street, NW., Washington, DC 20005.

2. Submissions via the U.S. Postal Service: Foreign-Trade Zones Board, U.S. Department of Commerce, FCB-Suite 4100W, 1401 Constitution Avenue, NW., Washington, DC 20230.

The closing period for their receipt is September 2, 2003. Rebuttal comments in response to material submitted during the foregoing period may be submitted during the subsequent 15-day period (to September 16, 2003).

A copy of the application and accompanying exhibits will be available during this time for public inspection at address Number 1 listed above, and at the U.S. Department of Commerce Export Assistance Center, 600 Superior Avenue East, Suite 700, Cleveland, OH 44114.

Dated: June 27, 2003.
Dennis Puccinelli,
Executive Secretary.

[FR Doc. 03-16921 Filed 7-2-03; 8:45 am]

BILLING CODE 3510-DS-P